ENVIRONMENTAL PROTECTION AGENCY

40 CFR Part 271

[FRL-7151-1]

Wisconsin: Final Authorization of State Hazardous Waste Management Program Revisions

AGENCY: Environmental Protection Agency (EPA).

ACTION: Proposed rule.

SUMMARY: Wisconsin has applied to EPA for Final authorization of the changes to its hazardous waste program under the Resource Conservation and Recovery Act (RCRA). EPA proposes to grant final authorization to Wisconsin. In the “Rules and Regulations” section of this Federal Register, EPA is authorizing the changes by an immediate final rule. EPA did not make a proposal prior to the immediate final rule because we believe this action is not controversial and do not expect comments that oppose it. Unless we get written comments which oppose this authorization during the comment period, the immediate final rule will become effective on the date it establishes, and we will not take further action on this proposal. If we get comments that oppose this action, we will withdraw the immediate final rule and it will not take effect. We will then respond to public comments in a later final rule based on this proposal. You may not have another opportunity for comment. If you want to comment on this action, you must do so at this time.

DATES: Send your written comments by April 1, 2002.

ADDRESSES: Send written comments to Jean Gromnicki, Wisconsin Regulatory Specialist, DM-7J, 77 West Jackson Boulevard, Chicago, Illinois 60604. Please refer to Docket Number WI ARA 7. We must receive your comments by April 1, 2002. You can examine copies of the materials submitted by Wisconsin during normal business hours at the following locations: EPA Region 5 Library, 77 West Jackson Boulevard, Chicago, Illinois 60604, Contact: Jean Gromnicki, Phone number: (312) 886-6162 or the Wisconsin Department of Natural Resources, 101 North Webster, Madison, Wisconsin, 53707, Contact: Patricia Chabot, Phone: (608) 264-6015.

FOR FURTHER INFORMATION CONTACT: Jean Gromnicki, Wisconsin Regulatory Specialist at (312) 886-6162.

SUPPLEMENTARY INFORMATION: For additional information, please see the immediate final rule published in the “Rules and Regulations” section of this Federal Register.

Dated: February 15, 2002.
Bertram C. Frey,
Acting Regional Administrator, Region 5 .

[FR Doc. 02-4787 Filed 2-28-02; 8:45 am]

BILLING CODE 6560-50-P